ENVIRONMENTAL PROTECTION AGENCY

[FRL-6866-6]

Regulatory Reinvention (XL) Pilot Projects

AGENCY: Environmental Protection Agency.

ACTION: Notice of availability of the Project XL Draft Final Project Agreement: National Aeronautics and Space Administration (NASA) White Sands Test Facility (WSTF).

SUMMARY: EPA is requesting comments on a draft Project XL Final Project Agreement (FPA) for the National Aeronautics and Space Administration (NASA) White Sands Test Facility (WSTF). The FPA is a voluntary agreement developed collaboratively by NASA WSTF, the New Mexico Environmental Department (NMED) and the United States Environmental Protection Agency (US EPA). Project XL, announced in the Federal Register on May 23, 1995 (60 FR 27282), gives regulated entities the opportunity to develop alternative strategies that will replace or modify specific regulatory requirements, policies, procedures and guidance on the condition that they produce greater environmental benefits.

In this XL pilot project, NASA WSTF proposes to implement a regulatory reporting and information system that will electronically provide compliance reports and permit information required by EPA to the State of New Mexico Environmental Department (NMED). The system will give NMED and EPA real-time access to additional environmental data to include, regulatory reports, historical site information, database archives, Geographic Information Systems (GIS) reports, groundwater database archives, cross media compliance information and graphical interpretations of site information. The internet based system will include an extensive public access area to encourage public and stakeholder participation with the facility's environmental activities. The public access section of the web site will provide information on current environmental conditions and projects, and communication regarding recycling programs, waste minimization activities, community right to know issues, ISO 14001 certification efforts and NEPA projects.

DATES: The period for submission of comments ends on September 22, 2000.

ADDRESSES: All comments on the draft Final Project Agreement should be sent to: John DuPree USEPA Office of Policy, Economics and Innovation (M/C 1802), 1200 Pennsylvania Avenue, Washington, DC 20460. Comments may be faxed to Mr. DuPree at 202-260-3125.

FOR FURTHER INFORMATION CONTACT: To obtain a copy of the draft Final Project Agreement, contact John DuPree, 1200 Pennsylvania Avenue M/C (1802) Washington, DC 20460. The FPA and related documents are also available via the Internet at the following location: http://www.epa.gov/ProjectXL. In addition, the draft FPA is available at the NASA WSTF, P.O. Box 20, Las Cruces, NM 88004. Questions to EPA regarding the documents can be directed to John DuPree at (202) 260-4468 or Adele Cardenas at 214-665-7210. Questions to NASA WSTF regarding this project can be directed to Mr. David Amidei, NASA WSTF, P.O. Box 20, Las Cruces, NM 88004, Mr. Amidei's telephone number is (505) 524-5024. For information on all other aspects of the XL Program contact Nancy Birnbaum at the following address: Office of Policy Economics and Innovation, United States Environmental Protection Agency, 1200 Pennsylvania Avenue NW, Washington, DC 20460, Room M3802 (1802), Washington, DC 20460. Additional information on Project XL, including documents referenced in this notice, other EPA policy documents related to Project XL, regional XL contacts, application information, and descriptions of existing XL projects and proposals, are available via the Internet at http://www.epa.gov/ProjectXL.

Dated: August 31, 2000.
Elizabeth A. Shaw,
Director, Office of Environmental Policy Innovation.

[FR Doc. 00-23152 Filed 9-7-00; 8:45 am]

BILLING CODE 6560-50-U